DEPARTMENT OF COMMERCE

National Oceanic and Atmospheric Administration

RIN 0648-XA288

Marine Mammals; File No. 15748

AGENCY: National Marine Fisheries Service (NMFS), National Oceanic and Atmospheric Administration (NOAA), Commerce.

ACTION: Notice; receipt of application for permit amendment.

SUMMARY: Notice is hereby given that the Alaska SeaLife Center (ASLC), Seward, AK, has applied for an amendment to Scientific Research Permit No. 15748.

DATES: Written, telefaxed, or email comments must be received on or before June 6, 2012.

ADDRESSES: The application and related documents are available for review by selecting “Records Open for Public Comment” from the Features box on the Applications and Permits for Protected Species home page, https://apps.nmfs.noaa.gov, and then selecting File No. 15748 from the list of available applications.

These documents are also available upon written request or by appointment in the following offices:

Permits and Conservation Division, Office of Protected Resources, NMFS, 1315 East-West Highway, Room 13705, Silver Spring, MD 20910; phone (301) 427-8401; fax (301) 713-0376; and

Southwest Region, NMFS, 501 West Ocean Blvd., Suite 4200, Long Beach, CA 90802-4213; phone (562) 980-4001; fax (562) 980-4018.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Joselyd Garcia-Reyes or Tammy Adams, (301) 427-8401.

SUPPLEMENTARY INFORMATION: The subject amendment to Permit No. 15748 is requested under the authority of the Marine Mammal Protection Act of 1972, as amended (16 U.S.C. 1361 et seq.), and the regulations governing the taking and importing of marine mammals (50 CFR part 216).

Permit No. 15748, issued on May 25, 2011 (76 FR 31942), authorizes the permit holder to capture and harass free-living Weddell seals (Leptonychotes weddellii) in McMurdo Sound and along the shore of Ross Island, Antarctica to study thermoregulation. The research involves capture and restraint of adult females and pups/juveniles of either sex for attachment of scientific instruments, morphometric measurements, ultrasound, and tissue sampling. Harassment of additional seals in the vicinity of captured animals is also authorized, as is research-related mortality. Tissue samples collected may be exported from Antarctica for analysis in the U.S. The permit is valid through August 30, 2015.

The permit holder is requesting the permit be amended to include changes to the terms and conditions of the permit related to numbers of animals taken and manner of taking to include: increasing takes for the deployment of instrumentation on weaned pups/juveniles from 20 over the life of the permit to 35 over the life of the permit; increasing the number of takes per animal of weaned pups/juveniles and adult females from 2 to 3; adding nasal, oral, and rectal swab collection (one of each per animal) in weaned pups/juveniles and adult females; adding the use of spray lidocaine or similar agent; adding stable isotope analysis to compare stable isotope values of Weddell seals in the Ross Sea in the early 1900s to today; and adding an influenza A analysis using the requested swab collection to understand the exposure of pathogens to Antarctic marine mammals.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: May 1, 2012.
Tammy C. Adams,
Acting Chief, Permits and Conservation Division, Office of Protected Resources, National Marine Fisheries Service.

[FR Doc. 2012-10966 Filed 5-4-12; 8:45 am]

BILLING CODE 3510-22-P